DEPARTMENT OF HEALTH AND HUMAN SERVICES

Indian Health Service

Notice of Proposed Purchased/Referred Care Delivery Area Redesignation for the Iowa Tribe of Kansas and Nebraska

AGENCY: Indian Health Service, HHS.

ACTION: Notice.

SUMMARY: This Notice advises the public that the Indian Health Service (IHS) proposes to expand the geographic boundaries of the Purchased/Referred Care Delivery Area (PRCDA) for the Iowa Tribe of Kansas and Nebraska (Iowa Tribe, or Tribe) to include the counties of Jackson in the State of Kansas, and Holt in the State of Missouri. The current PRCDA for the Iowa Tribe includes the Kansas counties of Doniphan and Brown, as well as Richardson County, Nebraska. Iowa Tribe members who reside outside of the PRCDA are eligible for direct care services; however, they are not eligible for Purchased/Referred Care (PRC) services. The sole purpose of this expansion would be to authorize additional Iowa Tribe members and beneficiaries to receive PRC services.

DATES: Comments must be submitted by January 10, 2025.

ADDRESSES: Because of staff and resource limitations, we cannot accept comments by facsimile (FAX) transmission. You may submit comments in one of four ways (please choose only one of the ways listed):

1. Electronically. You may submit electronic comments on this regulation to http://www.regulations.gov. Follow the “Submit a Comment” instructions.

2. By regular mail. You may mail written comments to the following address ONLY: Carl Mitchell, Director, Division of Regulatory and Policy Coordination, Indian Health Service, 5600 Fishers Lane, Mail Stop: 09E70, Rockville, Maryland 20857.

Please allow sufficient time for mailed comments to be received before the close of the comment period.

3. By express or overnight mail. You may send written comments to the above address.

4. By hand or courier. If you prefer, you may deliver (by hand or courier) your written comments before the close of the comment period to the address above.

If you intend to deliver your comments to the Rockville address, please call telephone number (301) 443-1116 in advance to schedule your arrival with a staff member.

FOR FURTHER INFORMATION CONTACT: CAPT John Rael, Director, Office of Resource Access and Partnerships, Indian Health Service, 5600 Fishers Lane, Mail Stop: 10E85C, Rockville, Maryland 20857. Telephone (301) 443-0969 (This is not a toll-free number).

SUPPLEMENTARY INFORMATION:

Inspection of Public Comments: All comments received before the close of the comment period are available for viewing by the public, including any personally identifiable or confidential business information that is included in a comment.

Background: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC services but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). The regulations also provide that after consultation with the Tribal governing body or bodies on those reservations included within the PRCDA, the Secretary may, from time to time, redesignate areas within the United States for inclusion in or exclusion from a PRCDA. 42 CFR 136.22(b). The regulations require that certain criteria be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC. Additionally, the regulations require that any redesignation of a PRCDA be made in accordance with the procedures of the Administrative Procedure Act (5 U.S.C. 553). 42 CFR 136.22(c). In compliance with this requirement, the IHS is publishing this Notice and requesting public comments.

The Iowa Tribe is located in White Cloud, Kansas, and operates their PRC program as a Tribal Health Program out of the White Cloud Health Center. The IHS and the Iowa Tribe estimate that approximately 77 Tribal members reside in Jackson County, Kansas, and Holt County, Missouri, and would become PRC eligible through the proposed redesignation and expansion of the Tribe's PRCDA.

If the Iowa Tribe's PRCDA redesignation and expansion is finalized as proposed, the Tribe's expanded PRCDA would overlap the PRCDAs of three other Tribes: the Sac and Fox Nation of Missouri in Kansas and Nebraska, the Kickapoo Tribe of Indians of the Kickapoo Reservation (Jackson County, Kansas), and the Prairie Band of Potawatomi Nation (Jackson County, Kansas). The Iowa Tribe and the Sac and Fox Nation of Missouri in Kansas and Nebraska share a PRC program, but currently have different PRCDAs; the Sac and Fox Nation of Missouri has submitted a concurrent request for redesignation and expansion of their own PRCDA. Both redesignation requests were submitted to the IHS through the same correspondence from the White Cloud Health Center. If the Iowa Tribe's and Sac and Fox Nation of Missouri's PRCDAs are each redesignated and expanded as requested, the Tribes would have identical, overlapping PRCDAs, simplifying the administration and operation of their local PRC program.

The IHS has consulted with the Kickapoo Tribe of Indians of the Kickapoo Reservation and the Prairie Band of Potawatomi Nation regarding the potential for overlapping PRCDAs in Jackson County, Kansas. Neither the Kickapoo Tribe of Indians of the Kickapoo Reservation nor the Prairie Band of Potawatomi Nation expressed concerns regarding the proposed redesignation and expansion.

Under 42 CFR 136.23, those otherwise eligible Indians who do not reside on a reservation, but reside within a PRCDA, must be either members of the Tribe or other IHS beneficiaries who maintain close economic and social ties with the Tribe. In this case, applying the aforementioned PRCDA redesignation criteria required by operative regulations codified at 42 CFR part 136, subpart C, the following findings are made:

1. By expanding the PRCDA to include Jackson County, Kansas, and Holt County, Missouri, the Iowa Tribe's PRC eligible population will increase by an estimated 77 Tribal members.

2. The Iowa Tribe communicated its governing body's determination that their members residing in the proposed expansion counties are socially and economically affiliated with the Tribe. The IHS therefore finds that the Tribe's members within the proposed, expanded PRCDA are socially and economically affiliated with the Iowa Tribe.

3. The expanded PRCDA counties form a contiguous area with the existing PRCDA. Holt County, Missouri, shares a common boundary with the Iowa Tribe's reservation lands in Richardson County, Nebraska. Jackson County, Kansas, is contiguous with Brown County, which includes part of the Iowa Tribe's reservation lands and is currently included in the Iowa Tribe's PRCDA. Members of the Iowa Tribe reside in each of the counties proposed for inclusion in the expanded PRCDA. For these reasons, the IHS has determined the additional counties proposed for inclusion herein to be geographically proximate, meaning “on or near,” to the Tribe's reservation.

4. The White Cloud Health Center has indicated that the PRC program can continue providing the same level of care to the PRC eligible population if the PRCDA is expanded as proposed, without requiring additional funding or reduction of the current medical priority level.

Accordingly, the IHS proposes to expand the PRCDA of the Iowa Tribe to include the counties of Jackson in the State of Kansas, and Holt in the State of Missouri.

This Notice does not contain reporting or recordkeeping requirements subject to prior approval by the Office of Management and Budget under the Paperwork Reduction Act of 1980.

Roselyn Tso,
Director, Indian Health Service.

[FR Doc. 2024-29101 Filed 12-10-24; 8:45 am]

BILLING CODE 4166-14-P